DEPARTMENT OF THE INTERIOR

Bureau of Land Management

[18X.LLES964000.L14400000.FR0000; FLES-58597]

Notice of Proposed Withdrawal Extension and Opportunity for Public Meeting for the Pelican Island National Wildlife Refuge; Florida

AGENCY: Bureau of Land Management, Interior.

ACTION: Notice.

SUMMARY: The Secretary of the Interior proposes to extend the duration of Public Land Order (PLO) No. 5683 for an additional 40-year term. PLO No. 5683 withdrew 37.50 acres of public land from settlement, sale, location, or entry under the general land laws, including the mining laws, but not from leasing under the mineral leasing laws and reserved under the jurisdiction of the Department of the Interior as part of the Pelican Island National Wildlife Refuge (PINWR), administered by the United States Fish and Wildlife Service (USFWS). This Notice gives an opportunity for the public to comment on the petition/application for the proposed withdrawal extension and to request a public meeting.

DATES: For a period until February 11, 2019, all persons who wish to submit comments, suggestions, or objections in connection with the proposed withdrawal extension may do so in writing.

ADDRESSES: Written comments should be sent to the BLM Southeastern States District Office, Attn: Victoria Craft, 273 Market Street, Flowood, MS 39232 or by email to: vcraft@blm.gov.

FOR FURTHER INFORMATION CONTACT: Sally Spencer, phone: 202-912-7700; email: sspencer@blm.gov. Persons who use a telecommunications device for the deaf (TDD) may call the Federal Relay Service (FRS) at 1-800-877-8339 to contact the above individual during normal business hours. The FRS is available 24 hours a day, 7 days a week, to leave a message or question with the above individual.

SUPPLEMENTARY INFORMATION: The withdrawal created by PLO No. 5683 (44 FR 53084, 1979), will expire on September 11, 2019, unless extended. The USFWS has filed a petition/application requesting extension of the withdrawal created by the PLO for an additional 40-year term. The PLO withdrew the following described public land from settlement, sale, location, or entry under the general land laws, including the mining laws, but not from leasing under the mineral leasing laws, and reserved them as part of the PINWR:

Tallahassee Meridian, Florida

T. 31 S, R. 39 E,

Sec. 9, lot 9

The land withdrawn by PLO No. 5683 are located in Indian River County (formerly a portion of Brevard County), Florida.

The purpose of the withdrawal extension is to continue to provide an upland buffer zone between the existing refuge and the adjacent privately held land. The withdrawn land is home to PINWR's Centennial Trail, Boardwalk, and Observation Pavilion, which were developed in recognition of the 2003 Centennial Celebration of the National Wildlife Refuge System, at the home of the first National Wildlife Refuge. The PINWR contains 5,400 acres and is visited by over 100,000 people annually who come to experience nature and learn about the Refuge.

The use of a right-of-way, interagency agreement, or cooperative agreement would not provide adequate protection for the wildlife habitat and unique resource values within the PINWR.

No additional water rights would be needed to fulfill the purpose of the requested withdrawal extension.

There are no suitable alternative sites since the lands described herein contain the natural and biological resources of interest for protection.

All persons who wish to submit comments, suggestions, or objections in connection with the proposed withdrawal extension may present their views in writing to the BLM Eastern States, at the address indicated above. Comments, including names and street addresses of respondents, will be available for public review at the address stated above, during regular business hours, 7:30 a.m. to 4:30 p.m., Monday through Friday, except holidays.

Before including your address, phone number, email address, or other personally identifiable information in your comment, you should be aware that your entire comment—including your personally identifiable information—may be made publicly available at any time. While you can ask the BLM in your comment to withhold your personally identifiable information from public review, we cannot guarantee that we will be able to do so.

Notice is hereby given that an opportunity for a public meeting is afforded in connection with the proposed withdrawal extension. All interested persons who desire a public meeting for the purpose of being heard on the proposed withdrawal extension must submit a written request to the District Manager, BLM Southeastern States District Office at the address provided in the ADDRESSES section, within 90 days from the date of publication of this Notice. If the authorized officer determines that a public meeting will be held, a Notice of the date, time, and place will be published in the Federal Register and local newspapers and posted on the BLM website at: www.blm.gov at least 30 days before the scheduled date of the meeting.

All statements received will be considered before any recommendation concerning the proposed extension is submitted to the Assistant Secretary—Land and Minerals Management for final action. This withdrawal extension proposal will be processed in accordance with the regulations set forth in 43 CFR 2310.4.

Authority: 43 CFR 2310.3-1.

Dated: November 6, 2018.
Ryan K. Zinke,
Secretary of the Interior.

[FR Doc. 2018-24717 Filed 11-9-18; 8:45 am]

BILLING CODE 4310-GJ-P